DEPARTMENT OF HOUSING AND URBAN DEVELOPMENT

[Docket No. FR-5603-N-15]

Notice of Submission of Proposed Information Collection to OMB; Evaluation of the Veterans Homelessness Prevention Demonstration

AGENCY: Office of the Chief Information Officer, HUD.

ACTION: Notice.

SUMMARY: The proposed information collection requirement described below has been submitted to the Office of Management and Budget (OMB) for review, as required by the Paperwork Reduction Act. The Department is soliciting public comments on the subject proposal.

The Department of Housing and Urban Development requests review and approval of the Paperwork Reduction Act requirements for the collection of information required to evaluate the Veterans Homelessness Prevention Demonstration (VHPD). The Department solicits public comments on the proposed collection of information to: (1) Enhance the quality, utility, and clarity of the information to be collected; and (2) minimize the burden of the information collection on those who respond; including through the use of appropriate automated collection techniques or other forms of information technology that will reduce burden.

DATES: Comments Due Date: March 30, 2012.

ADDRESSES: Interested persons are invited to submit comments regarding this proposal. Comments should refer to the proposal by name and/or OMB approval Number (2528-New) and should be sent to: HUD Desk Officer, Office of Management and Budget, New Executive Office Building, Washington, DC 20503; fax: 202-395-5806. Email: OIRA_Submission@omb.eop.gov; fax: 202-395-5806.

FOR FURTHER INFORMATION CONTACT: Colette Pollard, Reports Management Officer, QDAM, Department of Housing and Urban Development, 451 Seventh Street SW., Washington, DC 20410; email Colette Pollard at Colette.Pollard@hud.gov or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Evaluation of the Veterans Homelessness Prevention Demonstration.

OMB Approval Number: 2528-New.

Form Numbers: None.

Description of the Need for the Information and Its Proposed Use: The FY 2009 budget for HUD included a $10 million set-aside for a demonstration program “to test the effectiveness of strategies to prevent veterans from becoming homeless” (Senate Report No. 110-418). The Senate Report directed HUD to coordinate the demonstration program with the U.S. Department of Veterans Affairs (VA) and the U.S. Department of Labor (DOL). The resulting demonstration program, the Veterans Homelessness Prevention Demonstration (VHPD), is being implemented in five communities. The objectives of the VHPD evaluation are to (1) examine the most effective ways to identify, reach, and assist veterans who are at-risk of homelessness or are experiencing short-term homelessness; (2) evaluate the extent to which VHPD services and activities meet the needs of veterans experiencing a housing crisis and contribute to their longer-term economic stability; and (3) identify barriers to providing prevention services to veterans.

Frequency of Submission: Once.

Estimated total number of hours needed to prepare the information collection including number of respondents, frequency of responses, and hours of responses:

Form | Respondent sample | Number of respondents | Average time to complete (hours) | Frequency | Total burden (hours)
Baseline Survey | VHPD Households | 500 | 0.5 | 1 | 250
Follow-up Survey | VHPD Households | 500 | 0.5 | 1 | 250
Focus Groups | VHPD clients | 80 | 2.0 | 1 | 160
Total Burden Hours |  |  |  |  | 660

Total Estimated Burden Hours: 660.

Status: New collection.

Authority: Section 3507 of the Paperwork Reduction Act of 1995, 44 U.S.C. 35, as amended.

Dated: February 23, 2012.
Colette Pollard,
Departmental Reports Management Officer, Office of the Chief Information Officer.

[FR Doc. 2012-4828 Filed 2-28-12; 8:45 am]

BILLING CODE 4210-67-P